FEDERAL COMMUNICATIONS COMMISSION

Sunshine Act Meeting; Open Commission Meeting; Friday, August 9, 2013

August 2, 2013.

The Federal Communications Commission will hold an Open Meeting on the subjects listed below on Friday, August 9, 2013. The meeting is scheduled to commence at 10:30 a.m. in Room TW-C305, at 445 12th Street SW., Washington, DC.

Item No. | Bureau | Subject
1 | INTERNATIONAL | TITLE: Comprehensive Review of Licensing and Operating Rules for Satellite Services (IB Docket No. 12-267) SUMMARY: The Commission will consider a Report and Order that streamlines Part 25 of the Commission's rules to facilitate greater investment and innovation in the satellite industry and promote more rapid deployment of new satellite services to the public.
2 | OFFICE OF ENGINEERING & TECHNOLOGY | TITLE: Revision of Part 15 of the Commission's Rules Regarding Operation in the 57-64 GHz Band (RM-11104 and ET Docket No. 07-113) SUMMARY: The Commission will consider a Report and Order addressing technical requirements applicable to unlicensed services in the 57-64 GHz frequency band to provide additional competition in the broadband market, improve efficient delivery of broadband services in residences and businesses, and facilitate backhaul transport to support the deployment of 4th Generation (4G) and other wireless services.
3 | WIRELINE COMPETITION | TITLE: Rates for Interstate Inmate Calling Services (WC Docket No. 12-375) SUMMARY: The Commission will consider a Report and Order and Further Notice of Proposed Rulemaking to reform interstate inmate calling services rates and practices.
4 | INCENTIVE AUCTION TASK FORCE | TITLE: Presentation on the Status of the Broadcast Incentive Auction SUMMARY: The Incentive Auction Task Force will present the latest update on progress towards the Commission's 2014 television broadcast incentive auction.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary, Office of the Secretary, Office of Managing Director.

[FR Doc. 2013-19788 Filed 8-12-13; 11:15 am]

BILLING CODE 6712-01-P